DEPARTMENT OF HEALTH AND HUMAN SERVICES

Health Resources and Services Administration

Advisory Committee on Infant Mortality; Notice of Meeting

In accordance with section 10(a)(2) of the Federal Advisory Committee Act (Public Law 92-463), notice is hereby given of the following meeting:

Name: Advisory Committee on Infant Mortality (ACIM).

Dates and Times: April 24, 2013, 8:00 a.m.-5:00 p.m., April 25, 2013, 8:00 a.m.-3:00 p.m.

Place: Virtual via Webinar.

Status: The meeting is open to the public. For more information on registration and webinar details, please visit the ACIM Web site: http://www.hrsa.gov/advisorycommittees/mchbadvisory/InfantMortality.

Adobe Connect: https://hrsa.connectsolutions.com/infantmortality/.

Teleconference Number: (888) 790-1958.

Participant passcode: 461-8352.

Purpose: The Committee provides advice and recommendations to the Secretary of Health and Human Services (HHS) on the following: HHS programs that focus on reducing infant mortality and improving the health status of infants and pregnant women; and factors affecting the continuum of care with respect to maternal and child health care. ACIM accesses the outcomes following childbirth; strategies to coordinate the myriad federal, state, local, and private programs and efforts that are designed to deal with the health and social problems impacting on infant mortality; and the implementation of the Healthy Start program and Healthy People 2020 infant mortality objectives.

Agenda: Topics that will be discussed include the following: Updates from federal agencies including the Health Resources and Services Administration and Centers for Medicare and Medicaid Services; improving the health of women (Maternal Health Initiative); updates from partnering agencies and organizations; and, ACIM's recommendations for the HHS National Strategy to Address Infant Mortality.

Proposed agenda items are subject to change as priorities dictate. Time will be provided for public comments. Each public comment is limited to five minutes. Comments are to be submitted in writing no later than 5:00 p.m. ET on April 19, 2013.

For Further Information Contact: Anyone requiring information regarding the Committee should contact Michael C. Lu, M.D., M.P.H., Executive Secretary, ACIM, Health Resources and Services Administration, Room 18-05, Parklawn Building, 5600 Fishers Lane, Rockville, MD 20857, telephone: (301) 443-2170.

Individuals who are submitting public comments or who have questions regarding the meeting should contact David S. de la Cruz, Ph.D., M.P.H., ACIM Designated Federal Official, Health Resources and Services Administration, Maternal and Child Health Bureau, telephone: (301) 443-0543, or email: David.delaCruz@hrsa.hhs.gov. The logistical challenges of scheduling the meeting hindered an earlier publication of this meeting notice.

Dated: April 16, 2013.
Bahar Niakan,
Director, Division of Policy and Information Coordination.

[FR Doc. 2013-09507 Filed 4-22-13; 8:45 am]

BILLING CODE 4165-15-P